DEPARTMENT OF HEALTH AND HUMAN SERVICES

Training of Latin American Health Care Workers; Cooperative Agreement

AGENCY: Office of the Secretary, Office of Public Health Emergency Preparedness, HHS.

ACTION: Notice.

Funding Opportunity Title: Training of Latin American Health Care Workers through the Gorgas Memorial Institute, Republic of Panamá.

Announcement Type: Single-Source, Cooperative Agreement.

Funding Opportunity Number: Not applicable.

Catalog of Federal Domestic Assistance Number: The Office of Management and Budget (OMB) Catalog of Federal Domestic Assistance (CFDA) number is 93.019.

Authority: The Department of Defense, Emergency Supplemental Appropriations to Address Hurricanes in the Gulf of Mexico, and the Pandemic Influenza Act, 2006, Pub. L. 109-148, 119 Stat. 2680, 2786 (2005); section 2811 of the Public Health Service Act (PHS Act), 42 U.S.C. 300hh-11.

SUMMARY: This project will support the Gorgas Memorial Institute (GMI) to: (a) Develop a regional training center in Panamá and (b) train community health workers and clinicians (physicians, nurses, and auxiliary medical workers) and select public-health professionals from Central and South America, (c) facilitate partnerships (“twinning”) between U.S. universities and their Latin American counterparts to develop human resources for health in Latin America, and (d) harness the energies of U.S. and other non-governmental organizations by partnering with them to advance community health training and program efforts in Latin America. These efforts will contribute to improved and expanded provision of prevention and primary health care, and they will help engage significantly more areas of these countries to prepare for and respond to public health emergencies such as pandemic influenza.

The training efforts of this project will place greater emphasis on the training of nurses and community health workers, rather than physicians, to reap the greatest improvement in expanded coverage and improved access to community, preventive and primary health care in underserved parts of Latin America (i.e., underserved rural and poor urban communities). In addition, as a result, the healthcare work force will be better prepared to respond to public health emergencies such as pandemic influenza. Key to the selection of recipients for this training will be their availability and willingness to commit to providing their health and medical care skills in underserved areas within the region. In addition to all appropriate medical care and health education or communication subjects, training supported by this project will emphasize infectious diseases, epidemiology, disease surveillance and outbreak response, among other subjects so graduates of training programs will be prepared to play contributing roles to any pandemic preparation and response.

SUPPLEMENTARY INFORMATION: While a number of Latin American countries have made significant strides in improving the quality of health care for their citizens, and extending that care into underserved areas, a number of countries and regions still suffer from a shortage of appropriately trained health-care workers and clinicians. Though all levels of medical care (primary, secondary and tertiary) warrant further investment and effort to meet Latin Americans' present and growing need for medical care, this need is perhaps most acute among rural and disadvantaged communities, where essential prevention and primary care are absent or sparse. From a public-health perspective, focusing public investment on basic and essential primary care maximizes benefits, and provides the greatest contribution for the greatest number of people.

Compounding the pre-existing and wide ranging needs for basic community, preventive and primary health care in this region are new threats from emerging infectious diseases that are looming on the horizon. The H5N1 strain of avian flu has become the most threatening influenza virus in the world, and any large-scale outbreak of this disease among humans would have grave consequences for global public health, including in Latin America. Influenza experts have warned that the re-assortment of different H5N1 viruses over the past seven years greatly increases the potential for the viruses to be transmitted more easily from person to person. Medical practitioners have also discovered several other, new avian viruses transmissible to humans. In the fight against avian and pandemic influenza, early detection and response is the first line of defense, and greater numbers of appropriately trained community and clinical health-care workers would play a vital role in helping respond to such public-health emergencies.

No funds provided under this cooperative agreement may support any activity that duplicates another activity supported by any component of HHS. Funds provided under this cooperative agreement may not supplant funding provided by other sources. Grantees must coordinate all funded activities with the HHS Office of Public Health Emergency Preparedness (OPHEP).

DATES: To receive consideration, HHS must receive applications no later than 5 p.m., eastern time, on September 26, 2006.

I. Funding Opportunity Description

Authority: The Department of Defense, Emergency Supplemental Appropriations to Address Hurricanes in the Gulf of Mexico, and the Pandemic Influenza Act, 2006, Pub. L. 109-148, 119 Stat. 2680, 2786 (2005); section 2811 of the Public Health Service Act (PHS Act), 42 U.S.C. 300hh-11.

Purpose: This program proposes that GMI:

(a) Co-sponsor and develop a regional training center in Panamá for health workers, medical clinicians (auxiliary health-care workers, community health aides, nurses, physician assistants, nurse practitioners, and physicians) and select public-health professionals from Central and South America. Development of such a center is understood to include the recruitment and retention of faculty and administrative staff, the development of curricula, and all appropriate inter-face with Panamanian, regional and international educational systems and peer groups.

(b) Train significant and increasing numbers of community health workers and clinicians (physicians, nurses, and auxiliary medical workers) and select public-health professionals from Central and South American countries.

(c) Through this partnership with HHS, explore and lead, where possible, the creation of partnerships between U.S. universities and Latin American Counterpart institutions to further develop and train community-level health-care human resources, and identify policy and program options that can contribute to the greater expansion and sustainability of community-level health-care workers in currently underserved areas. Additional funds from HHS could be available in the future to further expand the number of these partnerships.

(d) With HHS, investigate and develop approaches for collaborating with Latin American, U.S. and/or international non-governmental organizations (NGOs) to help advance the training of the community and field health and medical personnel of these NGOs.

(e) With HHS, investigate and develop approaches for collaborating with Latin American and U.S. NGOs to link, bridge and supplement these NGOs' community health initiatives, where possible, through GMI's provision of logistical support and a base of operations for the NGOs', working in agreement with GMI.

(f) Identify organizations of U.S.-based emigrants and their Latin American places of origin throughout the countries of Central and South America, and pursue efforts to build or expand community health complements to any community assistance initiatives these organizations may be providing.

(g) With HHS, international health organizations and NGOs, pursue coordinated efforts on health campaigns of public-health priority for which a campaign strategy approach offers merit (e.g., immunization promotion including seasonal influenza immunization, polio eradication, oral rehydration therapy, etc.). Any campaigns should utilize the best available approaches to researching, development, implementation and evaluation.

GMI will design and implement new teaching methods directed to the community, to adopt healthy lifestyles towards prevention.

Measurable outcomes of the program will be the following:

(a) Development or establishment of teaching curricula, engagement in appropriate Panamanian and international teaching/educational networks to ensure high educational standards; the hiring of appropriately trained teaching and administrative staff; and the establishment of all appropriate management, fiscal, and business operations to support and sustain such a training institute.

(b) Periodic reports of the number of people who have completed training; such reports should include details on the numbers of those who have dropped out midway, and those who have completed the training; pre- and post-test scores on key competency subject areas; numbers trained by type of health-care or clinical worker; town and country of origin of incoming students, as well as where those same students work and reside at six- and twelve-month intervals following the completion of their training; and the results of follow-up questionnaires sent to graduates that solicit feedback on their training and its appropriateness, and suggestions for how the school might improve its training. Any information Gorgas provides to HHS on training participants should remove individuals' personal data from the reports so that participants' privacy will be maintained.

(c) The number of partnerships with U.S. institutions explored, as well as the number for which formal partnerships have been created, where substantive exchange of training expertise, faculty, and/or students is documented and described.

(d) The number of studies and recommendations of program and policy options available to Latin American countries that would contribute to expanded, sustained community-level health-care personnel.

(e) The number of partnerships with Latin American, U.S. and/or international NGOs that are explored, and the number of such partnerships developed and formally established.

(f) Detailed descriptions of the base-of-operations and logistics resources that GMI had developed and is maintaining, along with details of how it has gone about communicating the availability of these resources to NGOs.

(g) The number of Latin American, U.S. and/or international NGOs that have used GMI provision of base-of-operations and logistics support in a given time period, and details on the nature and extent of such utilization.

(h) The number of health campaigns in which GMI participates, with detailed description(s) of the role(s) played by GMI along with the level of effort it contributed to each of these efforts.

(i) Quantify and detail the number of organizations of U.S.-based emigrants with which GMI has identified and partnered with, to enhance their community-health activities, and provide details of those community-health activities.

(j) The number of scholarships awarded to low income students, who will be participating in these trainings. Any information Gorgas provides to HHS on training participants should remove individuals' personal data from the reports so that participants' privacy will be maintained.

Grantee Activities

It is anticipated the grantee will undertake a variety of activities to realize the aforementioned purposes and outcomes. A list of what some of these activities might include follows.

1. Establishing/developing teaching curricula;

2. Engaging in appropriate Panamanian and international teaching or educational networks to ensure high educational standards;

3. Hiring appropriately trained teaching and administrative staff;

4. Establishing all appropriate management, fiscal, and business operations to support and sustain an efficient and effective training institute;

5. Establishing an efficient performance monitoring and reporting system and submitting periodic reports to HHS;

6. Pursuing and developing partnerships with U.S. educational institutions in expanding GMI's knowledge, contacts and resources for improving and expanding community training and sustainability of health workers;

7. Pursuing and developing partnerships with Latin American, U.S. and/or international NGOs to provide these NGOs' healthcare staff with appropriate training;

8. Ensuring an appropriate level of facilities that can function as a base of operation for NGOs, with appropriate contingency plans for expanding this level of facilities as interest and demand for it could grow;

9. In partnership with HHS, Panamanian Ministry of Health and NGOs, acquire didactic teaching resources and equipment that will allow appropriate training.

10. Identify, provide and assemble logistics resources for NGOs to enhance their community-health and outreach activities;

11. In partnership with HHS, and NGOs, identify appropriate topics for health campaigns and participate in the implementation and assessment of those campaigns;

12. Identify and approach fraternal organizations of U.S.-based emigrants that provide assistance to communities in Latin America, and partner with these groups to enhance their community-health activities.

13. In partnership with HHS, Panamanian Ministry of Health and NGOs, identify scholarships or fellowships to participating healthcare personnel attending these courses.

This cooperative agreement will provide total funding of $2,500,000 for all aspects of the described project.

HHS will be substantially involved with the design and implementation of the grantee's described activities. As noted earlier, this grant is being issued and will be managed by the Office of Public Health Emergency Preparedness (OPHEP) and administered by OPHS, with substantive guidance from the Office of Global Health Affairs (OGHA). In HHS international public health efforts, OGHA collaborates with OPHEP on programs, issues and initiatives (e.g., Avian Influenza, disease surveillance, etc.). When international emergency preparedness and risk mitigation issues are being addressed, OGHA and OPHEP collaborate to ensure that these issues are sufficiently addressed.

HHS staff activities for this program are as follows:

1. Provide assistance in the design and implementation with any of the aforementioned objectives and activities, including the identification of U.S. Universities, and NGOs.

2. Provide liaison through HHS employees at U.S. Embassy(ies) in any participating or collaborating countries, as appropriate, and as relevant to the achievement of the purposes of this cooperative agreement.

3. Organize an orientation meeting with the grantee to discuss applicable U.S. Government, HHS, and National Strategic Plan expectations (as stated in the RFA), regulations and key management requirements, as well as report formats and contents. The orientation could include meetings with staff from HHS agencies and the Office of the Senior Coordinator for Avian and Pandemic Influenza at the U.S. Department of State.

4. Review and approve the process used by the grantee to select key personnel and/or post-award subcontractors and/or subgrantees to be involved in the activities performed under this agreement.

5. Review and approve the grantee's work plan and detailed budget;

6. Review and approve the grantee's monitoring-and-evaluation plan, including for compliance with the strategic-information guidance established by OMB and HHS;

7. Meet on a monthly basis with the grantee to assess monthly expenditures in relation to approved work plan and modify plans, as necessary.

8. Meet on a quarterly basis with the grantee to assess quarterly technical and financial progress reports and modify plans, as necessary.

9. Meet with the grantee to review the final progress report.

10. Provide technical assistance, as mutually agreed upon. This could include expert technical assistance and targeted training activities in specialized areas, such as strategic information and project management.

11. Provide in-country administrative support to help the grantee meet U.S. Government financial and reporting requirements approved by OMB under 0920-0428 (Public Health Service Form 5161).

12. Assist in assessing program operations and in implementing approaches to accurately monitor the progress and evaluate the overall effectiveness of the program.

II. Award Information

This project will be supported through the cooperative agreement mechanism. HHS/OPHEP anticipates making only one award for this proposed work. The anticipated start date is September 15, 2006 to run through to September 14, 2007. HHS/OPHEP anticipates providing $2,500,000 for the 12-month budget period. The total amount that the Gorgas Memorial Institute for Health Studies may request is $2,500,000. The funds in this cooperative agreement may not support indirect costs.

Approximate Current Fiscal Year Funding: $2,500,000.

Approximate Total Project Period Funding: This cooperative agreement will provide total funding of $2,500,000 for a 12-month budget period. Funds under this cooperative agreement shall not apply to indirect costs.

Approximate Number of Awards: One.

Ceiling of Individual Award Range: Maximum dollar amount for the 12-month budget period is $2,500,000, and will not include payment of any indirect costs.

Throughout the project period, the commitment of HHS to the continuation of funding will depend on the availability of funds, evidence of satisfactory progress by the recipient (as documented in required reports), demonstrated commitment of the recipient to the principles of the terms and spirit of this agreement.

III. Eligibility Information

1. Eligible Applicants

The only eligible applicant that can apply for this funding opportunity is the Gorgas Memorial Institute for Health Studies of Panamá. The Republic of Panamá has legacy of biomedical triumphs that began with the building of the Panama Canal. Recognizing the outstanding achievements of William Crawford Gorgas in eliminating Yellow Fever and controlling other tropical infections that made possible the construction of the Panama Canal, Panamanian President Belisario Porras proposed in 1920, the creation of the Gorgas Memorial Institute and Laboratories (GMI). GMI opened its doors in 1928, and since then has produced ground-breaking and internationally recognized work in the field of tropical medicine, emerging and re-emerging diseases.

As a public health, training, and research institution, GMI offers strengths in several areas that are essential to the effective realization of this proposal's objectives and activities.

• Staffing: GMI has 178 workers that include trainers, physicians, scientists, technical staff and administrative staff. GMI scientific and technical expertise resides in its excellent group of professionals, six of whom are PhDs and eleven of whom are M.D.s. One of the physicians is a former Minister of Health. GMI has two veterinary physicians and many technicians with master degrees in science. GMI has a specialist in geo-reference and a group trained in field isolation of dangerous organisms from animal tissues (developed during the Hanta virus epidemics). There is also an excellent administrative, medical library and informatics staff.

• Scientific and technical expertise: GMI is the national reference for influenza, dengue and other pathogenic viruses. It is the reference laboratory for Central America and Panama for HIV/AIDS, measles, Hanta virus and viral encephalitis. Its parasitologists have worked and continue to work in malaria, leishmania and Chagas' disease. GMI has a long and solid reputation in virology, easily confirmed by many distinguished virologists in the United States. The Gorgas Department of Virology has been extremely productive through its collaborations with the Yale University Arbovirus Research Unit, the University of Texas at Galveston and the CDC. GMI began working with influenza in 1976 and has contributed influenza isolates to the WHO, one of which is used in the current influenza vaccines. All these are health concerns of pressing significance for rural and underserved areas.

• Laboratory: It has well-established laboratories of virology, parasitology, immunology, genomics, entomology and food and water chemistry. GMI is the national reference laboratory for malaria, tuberculosis and all viral and bacterial diseases. GMI also has departments of epidemiology and biostatistics, chronic disease studies, health policy, and health and human reproduction studies. In addition to all these areas of expertise, GMI is also the locus of the national human subjects committee (National Institutional Review Board). A BLS-3 laboratory currently under construction is part of a modernization plan that will significantly enhance the capability of GMI laboratories to provide training in the role that laboratory services play in community health care delivery.

• Location: The unique geographic characteristics of Panama and its transportation (air, sea and land) infrastructure make it an extremely central and accessible location for people from Central and South America who would attend for training.

• Strategic Partnerships: GMI has a history of developing effective relations and partnerships with leading organizations including the Smithsonian Museum, the U.S. Department of Agriculture (USDA), and HHS/CDC-MERTU in Guatemala, among others.

• Historical Medical Collaboration Between the United States and Panama via GMI: American and Panamanian physicians and scientist have produced significant contributions since 1928, and those relationships continue up to present.

2. Cost-Sharing or Matching Funds

Cost participation is encouraged. HHS will pay $2,500,000, while GMI is encouraged to provide an amount that will be specified in their proposal. GMI's contribution may include indirect expenses and in-kind contributions. The types of resources GMI could contribute may include but are not limited to: Personnel time and costs, provision of existing and physical space and structures, and the remodeling (and associated costs) of those physical facilities that are to be converted to teaching facilities, and the development of a staging area for NGOs. If applicants receive funding from other sources to underwrite the same or similar activities, or anticipate receiving such funding in the next 12 months, they must detail how the disparate streams of financing complement each other.

3. Other

If an applicant requests a funding amount greater than the ceiling of the award range, HHS will consider the application non-responsive, and the application will not enter into the review process. HHS will notify the applicant that the application did not meet the submission requirements.

Special Requirements

If the application is incomplete or non-responsive to the special requirements listed in this section, the application will not enter into the review process. HHS will notify the applicant that the application did not meet submission requirements. HHS will consider late applications non-responsive. Please see section on “Submission Dates and Times.”

Section 503, Departments of Labor, Health and Human Services and Education, and Related Agencies, Appropriations Act, 2006, Pub. L. 109-149, 119 Stat. 2833 provides that an organization that engages in lobbying activities is not eligible to receive Federal funds constituting a grant, loan, or an award.

IV. Application and Submission Information

1. Address To Request Application Package

Application kits may be requested by calling (240) 453-8822 or writing to the Office of Grants Management, Office of Public Health and Science, Department of Health and Human Services, 1101 Wootten Parkway, Suite 550, Rockville, MD 20852. Applicants may also fax a written request to the OPHS Office of Grants Management at (240) 453-8823 to obtain a hard copy of the application kit. Applications must be prepared using Form OPHS-1.

2. Content and Form of Submission

Application: Applicants must submit a project narrative in English, along with the application forms, in the following format:

• If possible, the length of the proposal should not exceed 50 pages;

• Font size: 12-point, unreduced;

• Single-spaced;

• Paper size: 8.5 by 11 inches;

• Page-margin size: one inch;

• Number all pages of the application sequentially from page one (Application Face Page) to the end of the application, including charts, figures, tables, and appendices;

• Print only on one side of page; and

• Hold application together only by rubber bands or metal clips, and do not bind it in any way.

The narrative should address activities to be conducted over the entire project period and must include the following items in the order listed:

• Understanding of the requirements. The application shall include a discussion of your organization's understanding of the need, purpose and requirements of this cooperative agreement. The discussion shall be sufficiently specific, detailed and complete to clearly and fully demonstrate that the applicant has a thorough understanding of all the technical requirements of this announcement.

• A Project Plan. The project plan must demonstrate that the organization has the technical expertise to carry out the work or task requirements of this announcement. The plan must contain sufficient detail to clearly describe the proposed means for conducting the “Grantee Activities” described in Section I, and shall include a complete explanation of the methods and procedures the applicant will use. The project plan shall include discussions of the following elements:

○ Objectives;

○ Methods to accomplish the purposes of the cooperative agreement and the “Grantee Activities”;

○ Detailed time line for accomplishment of each activity;

○ Ability to respond to emergencies;

○ Ability to respond to situations on weekends and after hours; and

○ Coordination with HHS, U.S. educational institutions, and NGOs.

• Staffing and Management Plan. The applicant must provide a project staffing and management plan, which must include time lines and sufficient detail to ensure that it can meet the Federal Government's requirements in a timely and efficient manner.

○ The applicant must provide resumes that identify the educational and experience level of any individual(s) who will perform in a key position and other qualifications to show the key individuals' ability to comply with the minimum requirements of this announcement;

○ The applicant must provide a summary of the qualifications of non-key personnel. Resumes must be limited to three pages per person; and

○ The proposed staffing plan must demonstrate the applicant's ability to recruit, retain, or replace personnel who have the knowledge, experience, local-language skills, training and technical expertise commensurate with the requirements of this announcement. The plan must demonstrate the applicant's ability to provide bi-lingual personnel to train and mentor host-country participants.

• Performance Measures. The applicant must provide measures of effectiveness that will demonstrate accomplishment of the objectives of this cooperative agreement. Measures of effectiveness must relate to the performance goals stated in the “Purpose” section of this announcement. Measures must be objective and quantitative, and must measure the intended outcomes. The applicant must submit a section on measures of effectiveness with its application, and they will be an element for evaluation.

• Budget Justification. The budget justification must comply with the criteria for applications. The applicant must submit, at a minimum, a cost proposal fully supported by information adequate to establish the reasonableness of the proposed amount.

The applicant may include additional information in the application appendices, which will not count toward the narrative page limit. This additional information includes the following:

• Curricula Vitae, Resumes, Organizational Charts, Letters of Support, etc. An agency or organization is required to have a Dun and Bradstreet Data Universal Numbering System (DUNS) number to apply for a grant or cooperative agreement from the Federal government. The DUNS number is a nine-digit identification number, which uniquely identifies business entities. Obtaining a DUNS number is easy, and there is no charge. To obtain a DUNS number, access http://www.dunandbradstreet.com, or call 1-866-705-5711.

Additional requirements that could require submission of additional documentation with the application appear in section VI.2.—Administrative and National Policy Requirements.

3. Submission Dates and Times

The Office of Public Health and Science (OPHS) will assist with the administration of the grant and provides multiple mechanisms for the submission of applications, as described in the following sections. To be considered for review, applications must be received by the Office of Grants Management, Office of Public Health and Science, Department of Health and Human Services by 5 p.m. eastern time on the date specified in the dates section of the announcement. Applications will be considered as meeting the deadline if they are received on or before the deadline date. The application due date in this announcement supersedes the instructions in the OPHS-1.

Submission Mechanisms

The applicant will receive notification via mail from the OPHS Office of Grants Management confirming the receipt of the application submitted using any of these mechanisms. Any application submitted to the OPHS Office of Grants Management after the deadline described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic grant application submissions must be submitted no later than 5 p.m. eastern time on the deadline date specified in the DATES section of the announcement using one of the electronic submission mechanisms specified below. All required hardcopy original signatures and mail-in items must be received by the OPHS Office of Grants Management no later than 5 p.m. eastern time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web Site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award.

Electronic applications submitted via the Grants.gov Web site Portal must contain all completed online forms required by the application kit, the Program Narrative, Budget Narrative and any appendices or exhibits. All required mail-in items must be received by the due date requirements specified above. Mail-In items may only include publications, resumes, or organizational documentation.

Upon completion of a successful electronic application submission via the Grants.gov Web site Portal, the applicant will be provided with a confirmation page from Grants.gov indicating the date and time (eastern time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the OPHS eGrants System

The OPHS electronic grants management system, eGrants, provides for applications to be submitted electronically. Information about this system is available on the OPHS eGrants Web site, https://egrants.osophs.dhhs.gov, or may be requested from the OPHS Office of Grants Management at (240) 453-8822.

When submitting applications via the OPHS eGrants system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency.

Electronic applications submitted via the OPHS eGrants system must contain all completed online forms required by the application kit, the Program Narrative, Budget Narrative and any appendices or exhibits. The applicant may identify specific mail-in items to be sent to the Office of Grants Management separate from the electronic submission; however, these mail-in items must be entered on the eGrants Application Checklist at the time of electronic submission, and must be received by the due date requirements specified above. Mail-In items may only include publications, resumes, or organizational documentation.

Upon completion of a successful electronic application submission, the OPHS eGrants system will provide the applicant with a confirmation page indicating the date and time (eastern time) of the electronic application submission. This confirmation page will also provide a listing of all items that constitute the final application submission including all electronic application components, required hardcopy original signatures, and mail-in items, as well as the mailing address of the OPHS Office of Grants Management, where all required hard copy materials must be submitted.

As items are received by the OPHS Office of Grants Management, the electronic application status will be updated to reflect the receipt of mail-in items. It is recommended that the applicant monitor the status of their application in the OPHS eGrants system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. eastern time on the deadline date specified in the DATES section of the announcement. The application deadline date requirement specified in this announcement supersedes the instructions in the OPHS-1. Applications that do not meet the deadline will be returned to the applicant unread.

4. Intergovernmental Review of Applications

Executive Order 12372 does not apply to this program.

5. Funding Restrictions

Allowability, allocability, reasonableness, and necessity of direct and indirect costs that may be charged are outlined in the following documents: OMB-21 (Institutes of Higher Education); OMB Circular A-122 (Nonprofit Organizations) and 45 CFR part 74, Appendix E (Hospitals). Copies of these circulars can be found on the Internet at http://www.whitehouse.gov/omb. No pre-award costs are allowed. Restrictions, which applicants must take into account while preparing the budget, are as follows:

• Alterations and renovations (A&R) are prohibited under grants/cooperative agreements to foreign recipients. “Alterations and renovations” are defined as work that changes the interior arrangements or other physical characteristics of an existing facility or of installed equipment so that it can be used more effectively for its currently designated purpose or adapted to an alternative use to meet a programmatic requirement. Recipients may not use funds for A&R (including modernization, remodeling, or improvement) of an existing building.

• Reimbursement of pre-award costs is not allowed.

• Recipients may spend funds for reasonable program purposes, including personnel, travel, supplies, and services. Recipients may purchase equipment if deemed necessary to accomplish program objectives; however, they must request prior approval in writing from HHS/OPHEP officials for any equipment whose purchase price exceeds $10,000 USD.

• The costs generally allowable in grants/cooperative agreements to domestic organizations are allowable to foreign institutions and international organizations, with the following exception: With the exception of the American University, Beirut and the WHO Secretariat, HHS will not pay indirect costs (either directly or through sub-award) to organizations located outside the territorial limits of the United States, or to international organizations, regardless of their location.

• Recipients may contract with other organizations under this program; however, the applicant must perform a substantial portion of the project activities (including program management and operations) for which it is requesting funds. Contracts will require prior approval in writing from HHS/OPHEP.

• Recipients may not use funds awarded under this cooperative agreement to support any activity that duplicates another activity supported by any component of HHS.

• Applicants shall state all requests for funds in the budget in U.S. dollars. Once HHS makes an award, HHS will not compensate foreign recipients for currency-exchange fluctuations through the issuance of supplemental awards.

• The funding recipient must obtain an audit of these funds (program-specific audit) by a U.S.-based audit firm with international branches and current licensure/authority in-country, and in accordance with International Accounting Standards or equivalent standard(s) approved in writing by HHS.

• A fiscal Recipient Capability Assessment may be required, prior to or post award, to review the applicant's business management and fiscal capabilities regarding the handling of U.S. Federal funds.

6. Other Submission Requirements

None.

V. Application Review Information

Criteria

HHS will evaluate applications against the following factors:

Factor 1: Project Plan (35 Points)

HHS will evaluate the extent to which the proposal demonstrates that the organization has the technical and institutional expertise to carry out the work/task requirements described in this announcement. HHS will evaluate the applicant's project plan to determine the extent to which it provides a clear, logical and feasible technical approach to meeting the goals of this announcement in terms of workflow, resources, communications and reporting requirements for accomplishing work in each of the operational task areas.

Factor 2: Staffing and Management Plan (35 Points)

(a) Personnel. HHS will evaluate the relevant educational, work experience and local-language qualifications of key personnel, senior project staff, and subject-matter specialists to determine the extent to which they meet the requirements listed in this announcement.

(b) Staffing Plan. HHS will evaluate the staffing plan to determine the extent to which the applicant's proposed organizational chart reflects proper staffing to accomplish the work described in this announcement, and the extent of the applicant's ability to recruit, retain, or replace personnel who have the knowledge, experience, local-language skills, training and technical expertise to meet requirements of the positions.

Factor 3: Performance Measures (15 Points)

HHS will evaluate the applicant's description of performance measures, including measures of effectiveness, to determine the extent to which the applicant proposes objective and quantitative measures that relate to the performance goals stated in the Purpose section of this announcement, and whether the proposed measures will accurately measure the intended outcomes.

Factor 4: Understanding of the Requirements (15 Points)

HHS will evaluate the extent of the applicant's understanding of the operational tasks identified in this announcement to ensure successful performance of the work in this project. Because the focus of the work will include interaction with other countries in Central and South America, the applicant must demonstrate an understanding of the cultural, ethnic, political and economic factors that could affect successful implementation of this cooperative agreement.

The applicant's proposal must also demonstrate understanding of the functions, capabilities and operating procedures of U.S. educational institutions, as well as U.S., Latin American and International NGOs, and describe the applicant's ability to work with and within those organizations.

2. Review and Selection Process

HHS/OPHEP will review applications for completeness. An incomplete application or an application that is non-responsive to the eligibility criteria will not advance through the review process. HHS will notify applicants if their applications did not meet submission requirements.

An objective review panel will evaluate complete and responsive applications according to the criteria listed in the AV.1. “Criteria” section above.

VI. Award Administration Information

1. Award Notices

The successful applicant will receive a Notice of Award (NoA). The NoA shall be the only binding, authorizing document between the recipient and HHS. An authorized Grants Management Officer will sign the NoA, and mail it to the recipient fiscal officer identified in the application.

Unsuccessful applicants will receive notification of the results of the application review by mail.

2. Administrative and National Policy Requirements

A successful applicant must comply with the administrative requirements outlined in 45 CFR part 74 and part 92 as appropriate. The Fiscal Year 2006 Appropriations Act requires that when issuing statements, press releases, requests for proposals, bid solicitations, and other documents describing projects or programs funded in whole or in part with Federal money, the issuance shall clearly state the percentage and dollar amount of the total costs of the program or project to be financed with Federal money and the percentage and dollar amount of the total costs of the project or program to be financed by non-governmental sources.

3. Reporting Requirements

The applicant must provide HHS with an original, plus two hard copies, as well as an electronic copy of the following reports in English:

1. A quarterly progress report, due no less than 30 days after the end of each quarter of the budget period. The quarterly progress report must contain the following elements:

a. Activities and Objectives for the Current Budget Period;

b. Financial Progress for the Current Budget Period;

c. Proposed Activity Objectives for the New Budget Period;

d. Budget;

e. Measures of Effectiveness; and

f. Additional Requested Information.

2. A progress report, due 90 days after the end of the budget period, which must contain a detailed summary of the elements required in the quarterly progress report;

3. A final performance report, due no more than 90 days after the end of the project period; and

4. A Financial Status Report (FSR) SF-269 is due 90 days after the close of the 12-month budget period.

Recipients must mail the reports to the Grants Management Specialist listed in the “Agency Contacts” section of this announcement.

VII. Agency Contacts

For program technical assistance, contact: Craig Carlson, MPH, Office of Public Health Emergency Preparedness, Department of Health and Human Services, Telephone: 202-205-5228, E-mail: craig.carlson@hhs.gov.

For financial, grants management, or budget assistance, contact: DeWayne Wynn, Grants Management Specialist, Office of Grants Management, Office of Public Health and Science, Department of Health and Human Services, 1101 Wootten Parkway, Suite 550, Rockville, MD 20857, Telephone: (240) 453-8822, E-Mail Address: DeWayne.Wynn.os@hhs.gov.

Dated: September 6, 2006.
W. Craig Vanderwagen,
Assistant Secretary for Public Health Emergency Preparedness, Department of Health and Human Services.

[FR Doc. E6-15018 Filed 9-11-06; 8:45 am]

BILLING CODE 4150-37-P